DEPARTMENT OF HEALTH AND HUMAN SERVICES

National Institutes of Health

ODS Analytical Methods and Reference Materials Program—Vitamin Methodology Workshop; Notice

Notice is hereby given of the National Institutes of Health (NIH) Office of Dietary Supplements (ODS) Analytical Methods and Reference Materials Program, Vitamin Methodology Workshop to be held Monday, July 7th and Tuesday, July 8th, 2008 at the Marriott Gaithersburg Washingtonian Center Hotel in Gaithersburg, Maryland, 20878.

Summary

In FY 2002, Congress addressed the need for support of analytical methods and reference materials development related to dietary supplements. The congressional appropriation language supported an increased ODS budget for several topics, including analytical methods and reference materials. The Senate language called for: “ODS to allocate sufficient funds to speed up an ongoing collaborative effort to develop and disseminate validated analytical methods and reference materials for the most commonly used botanicals and other dietary supplements.”

On February 8, 2002, ODS held a public meeting to solicit comments to assist ODS in designing an overall strategy for implementing the Congressional mandate to foster development and validation of analytical methods and reference materials for dietary supplements.

In FY 2004 and 2005, Congress again used similar language supporting the Analytical Methods and Reference Materials program in the ODS appropriations.

On September 10, 2007 ODS held a Stakeholders' Meeting to state the progress that had been made by the Analytical Methods and Reference Materials program since its inception in 2002 and to receive comments on the future directions for the next five years. The Vitamin Methodology Workshop is a follow-up to the recommendations from the stakeholders. The purpose of the workshop is to evaluate the state of analytical methodology on vitamins suitable for dietary supplements and identify gaps in the analytical science for the purpose of meeting future methods needs of stakeholders.

The sponsor of this meeting is the NIH Office of Dietary Supplements.

Registration

Seating at this workshop is very limited. To register please forward your name and complete mailing addresses including phone number via e-mail to Mr. Mike Bykowski at mbyskowski@csion.com. Mr. Bykowski will be coordinating the registration for this meeting. If you wish to make an oral presentation during the meeting, you must indicate this when you register and submit the following information: (1) A brief written statement of the general nature of the statement that you wish to present, (2) the names and addresses of the person(s) who will give the presentation, and (3) the approximate length of time that you are requesting for your presentation. Depending on the number of people who register to make presentations, we may have to limit the time allotted for each presentation. If you don't have access to e-mail please call Mr. Bykowski at 301-670-0270.

Dated: May 12, 2008.
Paul Coates,
Director, Office of Dietary Supplements, National Institutes of Health.

[FR Doc. E8-11192 Filed 5-19-08; 8:45 am]

BILLING CODE 4140-01-P